DEPARTMENT OF HEALTH AND HUMAN SERVICES

[Document Identifier: OS-0990-0482]

Agency Information Collection Request 30-Day Public Comment Request

AGENCY: Office of the Secretary, HHS

ACTION: Notice.

SUMMARY: In compliance with the requirement of the Paperwork Reduction Act of 1995, the Office of the Secretary (OS), Department of Health and Human Services, is publishing the following summary of a proposed collection for public comment.

DATES: Comments on the ICR must be received on or before May 3, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@hhs.gov. When submitting comments or requesting information, please include the document identifier 0990-0482-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Continued Evaluation of the National Hypertension Control Initiative.

Type of Collection: Revision; OMB No. 0990-0482-OS/Office of Assistant Secretary for Health (OASH)/Office of Minority Health (OMH).

Abstract: As part of the Federal response to COVID-19, the U.S. Department of Health and Human Services (HHS)/Office of Secretary (OS)/Office of Assistant Secretary for Health (OASH)/Office of Minority Health (OMH) has funded a new initiative involving two cooperative agreements with the American Heart Association (AHA) to improve COVID-19-related health outcomes by addressing hypertension (high blood pressure) among racial and ethnic minority populations.

The $32 million project from the HHS Office of Minority Health (OMH) and the Health Resources and Services Administration (HRSA) Bureau of Primary Health Care will support the implementation of the National Hypertension Control Initiative (NHCI), a national initiative to improve blood pressure control among the most at-risk populations, including racial and ethnic minorities.

The NHCI will support 350 participating HRSA-funded health centers by providing patient and provider education and training for effective hypertension control and integration of remote blood pressure monitoring technology into treating hypertension for patients served by participating health centers. The project will also utilize the American Heart Association's targeted media campaigns and existing partnerships with community-based organizations (CBOs) to help reach Black, Latino, and other impacted communities with (i) culturally and linguistically appropriate messages, (ii) access to blood pressure screenings, and (iii) connection to health centers to encourage proper treatment and management of hypertension of screened individuals. This initiative serves to increase the number of adult patients with controlled hypertension and reduce the potential risk of COVID-related health outcomes.

AHA aims to conduct an evaluation to assess the feasibility of the implementation of each of the three NHCI strategies. The findings of this evaluation will inform the improvement and tailoring of AHA's communication approaches about the importance of and techniques for improving blood pressure control, including the benefits of accurately measuring, rapidly acting, and having a patient-focused approach to blood pressure control.

Methodology

The current proposed evaluation of the NHCI project will use a mixed methods design, integrating both quantitative and qualitative data collection and analyses. Three main goals of data collection will be to: (1) track and monitor Community Health Workers' (CHW) progress on activities related to knowledge and practices for blood pressure control and general health quarterly, (2) assess the reach and success of NHCI project strategies implemented by CHC partners.

Specifically, the AHA will engage in:

1. Primary Data Collection.

a. CHW Application. Collecting information on participating Community Health Workers (CHWs) at a single point in time to assist with placement in workforce activities related to blood pressure control.

b. CHW Assessment Form. Monitoring the placement and community-based goals of CHWs participating in the NHCI at a single point in time.

c. CHW Program Modules. Administering health lessons and quizzes to Community Health Workers (CHWs) working with Community-based Organizations and Community Health Centers to assess knowledge, skills, and practices both before (pre) and after (post) completion of the modules.

d. CHC Surveys. Conducting online data collection on participation and use of NHCI services and supports with CHC staff, with a single collection for each survey.

Estimated Annualized Burden Table
Type of respondent | Number of respondents | Number responses per respondent | Average burden per response (in hours) | Total burden hours
CHW: Application | 300 | 1 | 30/60 | 150
CHW: Assessment | 300 | 1 | 1 | 300
CHW: Program Modules (Pre-test and Post-test) | 300 | 14 | 10/60 | 700
CHCs: Use of Azara/Population Health Tool | 40 | 1 | 1 | 40
CHCs: JumpStart Modules | 350 | 1 | 1 | 350
CHCs: Uniti Health | 350 | 1 | 1 | 350
Total |  |  |  | 1,890.0

Sherrette A. Funn,
Paperwork Reduction Act Reports Clearance Officer, Office of the Secretary.

[FR Doc. 2024-07039 Filed 4-2-24; 8:45 am]

BILLING CODE 4150-29-P